DEPARTMENT OF VETERANS AFFAIRS

[OMB Control No. 2900-0094]

Agency Information Collection Activity Under OMB Review: Supplement to VA Forms 21-526EZ, 21P-534EZ, and 21P-535 (For Philippine Claims)

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to OMB Control No. 2900-0094.

FOR FURTHER INFORMATION CONTACT: Maribel Aponte, Office of Enterprise and Integration, Data Governance Analytics (008), 1717 H Street NW, Washington, DC 20006, (202) 266-4688 or email maribel.aponte@va.gov. Please refer to “OMB Control No. 2900-0094” in any correspondence.

SUPPLEMENTARY INFORMATION: Authority: 38 U.S.C. 101 and 6104.

Title: Supplement to VA Forms 21-526EZ, 21P-534EZ, and 21P-535 (For Philippine Claims) (VA Form 21-4169).

OMB Control Number: 2900-0094.

Type of Review: Reinstatement of a previously approved collection.

Abstract: VA Form 21-4169 is used to gather the necessary information to determine whether a claimant's service qualifies as service in the Commonwealth Army of the Philippines or recognized guerrilla organizations. The form is used for the sole purpose of collecting the information needed to determine eligibility for benefits based on such service, including service information, proof of service, place of residence, and membership in pro-Japanese, pro-German, or anti-American Filipino organizations.

This is a reinstatement only with no substantive changes. The respondent burden has not changed.

An agency may not conduct or sponsor, and a person is not required to respond to a collection of information unless it displays a currently valid OMB control number. The Federal Register Notice with a 60-day comment period soliciting comments on this collection of information was published at 86 FR 45 on March 10, 2021, pages 13789 and 13790.

Affected Public: Individuals or Households.

Estimated Annual Burden: 250.

Estimated Average Burden per Respondent: 15 minutes.

Frequency of Response: One time.

Estimated Number of Respondents: 1,000.

By direction of the Secretary.
Maribel Aponte,
VA PRA Clearance Officer, Office of Enterprise and Integration, Data Governance Analytics, Department of Veterans Affairs.

[FR Doc. 2021-10297 Filed 5-14-21; 8:45 am]

BILLING CODE 8320-01-P